JUDICIAL CONFERENCE OF THE UNITED STATES

Meeting of the Judicial Conference Advisory Committee on Rules of Appellate Procedure

AGENCY: Judicial Conference of the United States, Advisory Committee on Rules of Appellate Procedure.

ACTION: Notice of open meeting.

SUMMARY: The Advisory Committee on Rules of Appellate Procedure will hold a one-day meeting. The meeting will be open to public observation but not participation.

DATES: November 7, 2003.

TIME: 8:30 a.m. to 5 p.m.

ADDRESSES: Loews Coronado Bay Hotel, 4000 Coronado Bay Road, Coronado, CA.

FOR FURTHER INFORMATION CONTACT: John K. Rabiej, Chief, Rules Committee Support Office, Administrative Office of the United States Courts, Washington, DC 20544, telephone (202) 502-1820.

Dated: September 3, 2003.
John K. Rabiej,
Chief, Rules Committee Support Office.

[FR Doc. 03-23011 Filed 9-9-03; 8:45 am]

BILLING CODE 2210-55-M